DEPARTMENT OF HEALTH AND HUMAN SERVICES

National institutes of Health

Clinical Center; Amended Notice of Meeting

Notice is hereby given of a change in the meeting of the Board of Governors of the Warren Grant Magnuson Clinical Center, September 16, 2003, 9 a.m. to September 16, 2003, 12 p.m., National Institutes of Health, Building 10, 10 Center Drive, Medical Board Room 2C116, Bethesda, MD, 20892 which was published in the Federal Register on August 7, 2003, FR 68,152-47084.

The meeting will be held Friday, September 19, 2003 from 9 a.m. to 12 p.m. The meeting is open to the public

Dated: September 3, 2003.
LaVerne Stringfield,
Director, Office of Federal Advisory Committee Policy.

[FR Doc. 03-23101 Filed 9-10-03; 8:45 am]

BILLING CODE 4140-01-M